DEPARTMENT OF HOMELAND SECURITY

Federal Emergency Management Agency

[Docket ID: FEMA-2015-0003; OMB No. 1660-0068]

Agency Information Collection Activities: Submission for OMB Review; Comment Request; Federal Hotel and Motel Fire Safety Declaration Form.

AGENCY: Federal Emergency Management Agency, DHS.

ACTION: Notice.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before May 18, 2015.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 500 C Street SW., Washington, DC 20472-3100, facsimile number (202) 212-4701, or email address FEMA-Information-Collections-Management@fema.dhs.gov.

SUPPLEMENTARY INFORMATION:

Collection of Information

Title: Federal Hotel and Motel Fire Safety Declaration Form.

Type of information collection: Extension, without change, of a currently approved information collection.

OMB Number: 1660-0068.

Form Titles and Numbers: FEMA Form 516-0-1, Federal Hotel and Motel Fire Safety Declaration Form.

Abstract: Applicants complete and submit the Hotel-Motel Declaration Form online through the USFA Web site (http://www.usfa.dhs.gov/applications/hotel/) or they may request a paper-based version. Applications submitted through the Web site are reviewed and, if approved, the applicant will receive a FEMA ID Number for their facility. Online submission is the preferred method selected by the majority applicants. Paper-based forms returned by traditional methods (USPS mail, special delivery, or facsimile) receive the same review process as those submitted online. Lodging establishments must meet a certain level of life-safety from fire, as defined in Pub. L. 101-391, to become eligible for listing on the NML. Federal employees use the NML to select lodging while traveling on government-related business, but the list is also accessible to the general public.

Affected Public: Business or other for-profit; State, local or Tribal Government.

Estimated Number of Respondents: 2,294.

Estimated Total Annual Burden Hours: 696 hours.

Estimated Cost: The estimated annual cost to respondents for the hour burden is $35,004. There are no annual costs to respondents' operations and maintenance costs for technical services. There are no annual start-up or capital costs. The cost to the Federal Government is $50,053.00.

Dated: April 13, 2015.
Janice Waller,
Acting Director, Records Management Division, Mission Support, Federal Emergency Management Agency, Department of Homeland Security.

[FR Doc. 2015-08914 Filed 4-16-15; 8:45 am]

BILLING CODE 9111-45-P